DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Financial Assistance Information Collection, OMB Control Number 1910-0400. This information collection request covers information necessary to administer and manage DOE's financial assistance programs.

DATES: Comments regarding this collection must be received on or before July 29, 2010. If you anticipate difficulty in submitting comments within that period or if you want access to the collection of information, without charge, contact the person listed below as soon as possible.

ADDRESSES: Written comments should be sent to the following: Denise Clarke, Procurement Analyst, MA-612/950 L'Enfant Plaza Building, U.S. Department of Energy, 1000 Independence Avenue, SW., Washington, DC 20585-1615, deniset.clarke@hq.doe.gov.

FOR FURTHER INFORMATION CONTACT: Denise Clarke at the above address, or by telephone at (202) 287-1748.

SUPPLEMENTARY INFORMATION: This information collection request contains: (1) OMB No. 1910-0400 (Renewal); (2) Information Collection Request Title: DOE Financial Assistance Information Clearance; (3) Purpose: This package contains information collections necessary to annually plan, solicit, negotiate, award, administer, and closeout grants and cooperative agreements under the Department's financial assistance programs; (4) Estimated Number of Respondents 48,860; (5) Estimated Total Burden Hours: 890,537; and (6) Number of Collections: The information collection request contains 16 information and/or recordkeeping requirements.

Statutory Authority: Federal Grant and Cooperative Agreement Act, 31 U.S.C. 6301-6308. Section 3506(c)(2)(A) of the Paperwork Reduction Act of 1995 (Pub. L. 104-13).

Issued in Washington, DC, on June 23, 2010.
Patrick M. Ferraro,
Acting Director, Office of Procurement and Assistance Management.

[FR Doc. 2010-15728 Filed 6-28-10; 8:45 am]

BILLING CODE 6450-01-P